DEPARTMENT OF COMMERCE

National Oceanic and Atmospheric Administration

[I.D. 092606J]

General Advisory Committee to the U.S. Section to the Inter-American Tropical Tuna Commission; Meeting Announcement

AGENCY: National Marine Fisheries Service (NMFS), National Oceanic and Atmospheric Administration (NOAA), Commerce.

ACTION: Notice of public meeting.

SUMMARY: NMFS announces a meeting of the General Advisory Committee to the U.S. Section to the Inter-American Tropical Tuna Commission (IATTC) in November 2006. Meeting topics are provided under the SUPPLEMENTARY INFORMATION section of this notice.

DATES: The meeting will be held on November 1, 2006, from 9 a.m. to 5 p.m. (or until business is concluded), Pacific time.

ADDRESSES: The meeting will be held at NMFS, Southwest Regional Office, 501 West Ocean Boulevard, Suite 3400, Long Beach, CA 90803-4213.

FOR FURTHER INFORMATION CONTACT: Allison Routt at (562) 980-4019 or (562) 980-4030.

SUPPLEMENTARY INFORMATION: In accordance with the Tuna Conventions Act, as amended, the Department of State has appointed a General Advisory Committee to the U.S. Section to the IATTC. The U.S. Section consists of the four U.S. Commissioners to the IATTC and the representative of the Deputy Assistant Secretary of State for Oceans and Fisheries. The Advisory Committee supports the work of the U.S. Section in a solely advisory capacity with respect to U.S. participation in the work of the IATTC, with particular reference to the development of policies and negotiating positions pursued at meetings of the IATTC. NMFS, Southwest Region, administers the Advisory Committee in cooperation with the Department of State.

Meeting Topics

The General Advisory Committee will meet to receive and discuss information on: (1) introductions of new General Advisory Committee members appointed for 2006-2009, (2) election of a Chair for 2006-2009, (3) 2006 IATTC activities, (4) recent and upcoming meetings of the IATTC and its working groups, including issues such as: conservation and management measures for yellowfin, bigeye, and albacore tuna for 2006 and beyond, measures to be taken in cases of noncompliance with the IATTC's conservation and management measures, management of fishing capacity, and measures to address bycatch and other issues, (5) IATTC cooperation with other regional fishery management organizations, and (6) administrative matters pertaining to the General Advisory Committee.

Special Accommodations

The meeting location is physically accessible to people with disabilities. Requests for sign language interpretation or other auxiliary aids should be directed to Allison Routt at (562) 980-4019 or (562) 980-4030 by October 18, 2006.

Dated: September 28, 2006.
C. M. Moore
Acting Director, Office of Sustainable Fisheries, National Marine Fisheries Service.

[FR Doc. E6-16292 Filed 10-2-06; 8:45 am]

BILLING CODE 3510-22-S